NATIONAL SCIENCE FOUNDATION

Request for Public Comment on an Updated Standardized Research Performance Progress Report Format to be Used for Both Interim and Final Performance Progress Reporting

AGENCY: National Science Foundation (NSF).

ACTION: Request for public comment on an updated standardized Research Performance Progress Report (RPPR) format to be used for both interim and final performance progress reporting.

SUMMARY: The RPPR that was originally developed for use in preparation and submission of annual and other interim performance progress reports resulted from an initiative of Research Business Models (RBM), an Interagency Working Group of the Social, Behavioral & Economic Research Subcommittee of the Committee on Science (CoS), a committee of the National Science and Technology Council (NSTC). The original version of the RPPR format was approved for implementation in the Federal Register (FR) [Volume 75, pages 1816-1819, January 13, 2010]. As part of this FR notice, it was stated that the development of a final RPPR format would take place upon completion of the interim RPPR exercise.

A revised draft of the format has been developed to incorporate lessons learned by agencies during the initial implementation of the RPPR. The approach also has been changed from using the format for interim performance progress reports only to using the format for both interim and final performance progress reports.

On behalf of the RBM, the National Science Foundation (NSF) has agreed to continue to serve as the sponsor of the updated version of this Federal-wide performance progress reporting format. The general public and Federal agencies are invited to comment on the proposed revised format during the 60-day public comment period. A “For Comment” version of the draft format for use in submission of interim and final Research Performance Progress Reports, along with a summary of significant changes, are posted on the NSF Web site at: http://www.nsf.gov/bfa/dias/policy/rppr/index.jsp.

After obtaining and considering public comment, the RBM will prepare the format for final clearance. Each agency that uses the RPPR will need to seek OMB approval of this collection via the Paperwork Reduction Act for a period of no longer than three years.

Comments are invited on (a) whether the proposed collection of information is necessary for the proper performance of the functions of agencies funding research and research-related activities, including whether the information shall have practical utility; (b) ways to enhance the quality, utility, and clarity of the information collected from respondents, including through the use of automated collection techniques or other forms of information technology; and (c) ways to minimize the burden of the collection of information on respondents, including through the use of automated collection techniques or other forms of information technology.

DATES: Comments must be received by September 21, 2015.

ADDRESSES: Comments should be addressed to Suzanne H. Plimpton, Reports Clearance Officer, Office of the General Counsel, National Science Foundation, 4201 Wilson Blvd., Arlington, VA, 22230, email: splimpto@nsf.gov; telephone: (703) 292-7556; FAX (703) 292-9242. We encourage respondents to submit comments electronically to ensure timely receipt. We cannot guarantee that comments mailed will be received before the comment closing date. Please include “Research Performance Progress Reporting” in the subject line of the email message; please also include the full body of your comments in the text of the message and as an attachment. Include your name, title, organization, postal address, telephone number, and email address in your message.

FOR FURTHER INFORMATION CONTACT: To view the proposed RPPR format, see: http://www.nsf.gov/bfa/dias/policy/rppr/index.jsp. For information on the RPPR, contact Jean Feldman, Head, Policy Office, Division of Institution & Award Support, National Science Foundation, 4201 Wilson Blvd., Arlington, VA, 22230, email: jfeldman@nsf.gov; telephone (703) 292-8243; FAX: (703) 292-9171. For further information on the NSTC RBM Interagency Working Group, contact Kei Koizumi, at the Office of Science and Technology Policy, 1650 Pennsylvania Avenue NW., Washington, DC 20504; email: kkoizumi@ostp.eop.gov; telephone 202-456-6133; FAX 202-456-6021. See also the RBM Web site located at: http://rbm.nih.gov.

Dated: July 17, 2015.
Suzanne H. Plimpton,
Reports Clearance Officer, National Science Foundation.

[FR Doc. 2015-18007 Filed 7-22-15; 8:45 am]

BILLING CODE 7555-01-P